Proclamation 9456 of May 31, 2016

Great Outdoors Month, 2016

By the President of the United States of America

A Proclamation

Every day, Americans draw inspiration from the landscapes and outdoor spaces that surround us and connect us with our heritage and with one another. People have lived off of these lands and waters throughout history, and today, they continue to enrich our national experience. In June, we celebrate America's natural and cultural treasures and rich bounty of resources, and we recommit to upholding our responsibility, as those who came before us did, to ensure they are sustained for those who will inherit them.

From dense forests and vast deserts to lakes and rivers teeming with wildlife, our National Parks and other public spaces belong to all of us. That is why I have sought to protect places that are culturally and historically significant and that reflect the story of all our people. My Administration has also worked hard to ensure that everyone has the chance to easily visit and enjoy these spectacular areas. All Americans can explore the parks and monuments we share as our birthright, including through the “Find Your Park” campaign, which my Administration established to help connect people from all walks of life with new outdoor destinations and experiences. We also established the “Every Kid in a Park” initiative, offering free access to our National Parks and other public lands and waters for an entire year to fourth grade students and their families. And by increasing funding for the 21st Century Conservation Service Corps, we are striving to give more Americans hands-on opportunities to restore, enhance, and give back to the outdoor spaces that have given us so much.

Our experiences in nature remind us how fragile our ecosystems can be and of our obligation to protect them. That is why I am proud to have set aside more than 265 million acres of public lands and waters—more than any President in our history—and why my Administration has taken unprecedented action to tackle climate change. The planet and its natural beauty are changing as rising temperatures fuel the melting of glaciers and the increasing intensity of extreme weather events, including longer wildfire seasons and deeper droughts, and as seas rise, coastal communities face greater threats from flooding and eroding shorelines. It is within our power to address the peril of climate change, and we must act before it is too late.

During Great Outdoors Month, let us enjoy our Nation's natural bounty, whether in reflective solitude or in the energizing company of friends and family. As we rediscover the beauty of the outdoors—in our own backyards, along distant trails, or in the shadows of towering mountains—let us rededicate ourselves to preserving nature's splendor for future generations.

NOW, THEREFORE, I, BARACK OBAMA, President of the United States of America, by virtue of the authority vested in me by the Constitution and the laws of the United States, do hereby proclaim June 2016 as Great Outdoors Month. I urge all Americans to explore the great outdoors and to uphold our Nation's legacy of conserving our lands and waters.

IN WITNESS WHEREOF, I have hereunto set my hand this thirty-first day of May, in the year of our Lord two thousand sixteen, and of the Independence of the United States of America the two hundred and fortieth.

[FR Doc. 2016-13358

Filed 6-2-16; 11:15 am]

Billing code 3295-F6-P